FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995, the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before August 16, 2013. If you anticipate that you will be submitting PRA comments, but find it difficult to do so within the period of time allowed by this notice, you should advise the FCC contact listed below as soon as possible.

ADDRESSES: Submit your PRA questions to Judith B. Herman, Federal Communications Commission. To submit your PRA comments by email send them to: PRA@fcc.gov.

FOR FURTHER INFORMATION CONTACT: Judith B. Herman, Office of Managing Director, (202) 418-0214.

SUPPLEMENTARY INFORMATION: OMB Control Number: 3060-0192.

Title: Section 87.103—Posting Station License.

Form No.: N/A.

Type of Review: Extension of a currently approved collection.

Respondents: Business or other for-profit, not-for-profit institutions and state, local or tribal government.

Number of Respondents: 34,857 respondents; 34,857 responses.

Estimated Time per Response: .25 hours.

Frequency of Response: Recordkeeping requirements.

Obligation to Respond: Required to obtain or retain benefits. Statutory authority for this information collection is contained in 47 U.S.C. section 303 of the Communications Act of 1934, as amended.

Total Annual Burden: 8,714 hours.

Total Annual Cost: N/A.

Privacy Act Impact Assessment: N/A.

Nature and Extent of Confidentiality: There is no need for confidentiality.

Needs and Uses: The Commission will submit this expiring information collection after this comment period to obtain the full, three year clearance from the Office of Management and Budget (OMB). The Commission is requesting approval for an extension (no change in the recordkeeping requirement). There is a change to the Commission's previous burden estimates. The Commission is now requesting a 2,260 hour reduction adjustment. This reduction is due to a reduction in the number of respondents.

The recordkeeping requirement in Section 87.103 is necessary to demonstrate that all transmitters in the Aviation Service are properly licensed in accordance with the requirements of Section 301 of the Communications Act of 1934, as amended; 47 U.S.C. section 303; No. 2020 of the International Radio Regulations; and Article 30 of the Convention on International Civil Aviation.

The information is used by FCC staff during inspections and investigations to ensure the particular station is licensed and operated in compliance with applicable rules, statutes and treaties.

OMB Control Number: 3060-1159.

Title: Part 25—Satellite Communications; and Part 27—Miscellaneous Wireless Communications Services in the 2.3 GHz Band.

Form Number: N/A.

Type of Review: Revision of a currently approved collection.

Respondents: Business or other for-profit entities.

Number of Respondents: 158 respondents; 5,605 responses.

Estimated Time per Response: .5 hours to 40 hours.

Frequency of Response: On occasion and quarterly reporting requirements, recordkeeping requirement and third party disclosure requirement.

Obligation to Respond: Mandatory. Statutory authority for this information collection is contained in 47 U.S.C. sections 154, 301, 302(a), 303, 309, 332, 336 and 337 of the Communications Act of 1934, as amended.

Total Annual Burden: 24,572 hours.

Total Annual Cost: $928,200.

Privacy Impact Assessment: N/A.

Nature and Extent of Confidentiality: There is no need for confidentiality.

Needs and Uses: The Commission will submit this information collection after this comment period to obtain the full, three year clearance from the Office of Management and Budget (OMB). The Commission is requesting approval for a revision. There are changes to the Commission's burden estimates. The Commission is now reporting a 1,065 hour increase adjustment. This is due to a recalculation of the previous burden estimates. There is no change in the cost estimates.

On October 17, 2012, the Commission adopted an Order on Reconsideration in WT Docket No. 07-293, IB Docket No. 95-91, GEN Docket No. 90-357, FCC 12-130, which affirmed, modified and clarified the Commission's actions in the 1st and 2nd Report and Orders.

Among the actions taken in the Order on Reconsideration:

• Revised technical rules to enhance the ability of WCS licensees to deploy mobile broadband networks while establishing additional safeguards to protect neighboring SDARS, AMT, and DSN networks from harmful interference.

• Prohibited WCS mobile and portable devices' transmissions in WCB Blocks C and D to further protect SDARS operations.

• Relaxed the WCS licensee notification requirements regarding low-power WCS stations and minor WCS station modifications, and clarified WCS notification and coordination procedures.

• Restarted and provided a limited extension of the WCS performance periods to enable licensees to respond to revisions of technical rules.

The information filed by WCS licensees in support of their construction notifications will be used to determine whether licensees have complied with the Commission's performance benchmarks. Further, the information collected by licensees in support of their coordination obligations will help avoid harmful interference to SDARS, AMT and DSN operations in other spectrum bands.

Federal Communications Commission.
Marlene H. Dortch,
Secretary, Office of the Secretary, Office of Managing Director.

[FR Doc. 2013-14282 Filed 6-14-13; 8:45 am]

BILLING CODE 6712-01-P